DEPARTMENT OF COMMERCE

National Oceanic and Atmospheric Administration

RIN: 0648-XT60

Pacific Fishery Management Council; Public Meeting

AGENCY: National Marine Fisheries Service (NMFS), National Oceanic and Atmospheric Administration (NOAA), Commerce.

ACTION: Notice of a public meeting.

SUMMARY: The Pacific Fishery Management Council's (Council) Scientific and Statistical Committee, Coastal Pelagic Species Management Team, and Groundfish Management Team will hold a working meeting, which is open to the public.

DATES: The joint meeting will be held Tuesday, January 26 through Thursday, January 28, 2010. The meeting will begin each day at 8:30 a.m. and continue until business for each day is completed.

ADDRESSES: The meeting will be held at the Hotel Deca, 4507 Brooklyn Avenue Northeast, Seattle, WA 98105.

Council address: Pacific Fishery Management Council, 7700 NE Ambassador Place, Suite 101, Portland, OR 97220-1384.

FOR FURTHER INFORMATION CONTACT: Mr. Mike Burner, Mr. John DeVore, or Ms. Kelly Ames, staff officers; telephone: (503) 820-2280.

SUPPLEMENTARY INFORMATION: The purpose of the working meeting is to review and further develop analyses relating to harvest control rules, allowable biological catch, annual catch limits, and accountability measures for coastal pelagic species and groundfish. The advisory bodies may also address other assignments relating to coastal pelagic species management or groundfish management. No management actions will be decided by the advisory bodies. The role of the advisory bodies will be to develop analyses and recommendations for harvest control rules, allowable biological catch, annual catch limits, and accountability measures for consideration by the Council at future Council meetings.

Although non-emergency issues not contained in the meeting agenda may come before the advisory bodies for discussion, those issues may not be the subject of formal action during this meeting. Advisory body actions will be restricted to those issues specifically listed in this notice and any issues arising after publication of this notice that require emergency action under Section 305(c) of the Magnuson-Stevens Fishery Conservation and Management Act, provided the public has been notified of the advisory bodies' intent to take final action to address the emergency.

Special Accommodations

This meeting is physically accessible to people with disabilities. Requests for sign language interpretation or other auxiliary aids should be directed to Ms. Carolyn Porter at (503) 820-2280 at least 5 days prior to the meeting date.

Dated: December 31, 2009.
William D. Chappell,
Acting Director, Office of Sustainable Fisheries, National Marine Fisheries Service.

[FR Doc. E9-31428 Filed 1-6-09; 8:45 am]

BILLING CODE 3510-22-S